DEPARTMENT OF DEFENSE

Office of the Secretary

[Docket ID DoD-2012-OS-0153]

Proposed Collection; Comment Request

AGENCY: Defense Logistics Agency, DoD.

ACTION: Notice.

SUMMARY: In compliance with Section 3506(c)(2)(A) of the Paperwork Reduction Act of 1995, the Defense Logistics Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 15, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Logistics Agency, DLA Information Operations Richmond, ATTN: Mr. Walter B. Gooch, 8000 Jefferson Davis Highway, Richmond, Virginia 23297-5000; or call (804) 279-3075.

SUPPLEMENTARY INFORMATION:

Title; Associated Form; and OMB Number: Account Management and Provisioning System (AMPS); OMB Control Number 0704-XXXX.

Needs and Uses: System contains records relating to requests for and grants of access to DLA computer networks, systems, or databases. The records contain the individual's name, social security number, and citizenship.

Once collected, AMPS encrypts the SSN and makes it available for viewing only to the personnel security officer. Once system access is approved or denied by the personnel security officer, the SSN is re-encrypted and then deleted from the AMPS application.

Affected Public: State, Local, or Tribal Government, DoD Contractors.

Annual Burden Hours: 4,000.

Number of Respondents: 20,000.

Responses per Respondent: 1.

Average Burden per Response: 12 minutes.

Frequency: On occasion.

The system is maintained by DLA Information Operations to control and track access to DLA-controlled networks, computer systems, and databases. The records may also be used by law enforcement officials to identify the occurrence of and assist in the prevention of computer misuse and/or crim. Data, with all personal identifiers removed, may be used by management for system efficiency, workload, calculation, or reporting purposes.

Dated: July 14, 2014.
Aaron Siegel,
Alternate OSD Federal Register Liaison Officer, Department of Defense.

[FR Doc. 2014-16833 Filed 7-16-14; 8:45 am]

BILLING CODE 5001-06-P